ENVIRONMENTAL PROTECTION AGENCY

[EPA-HQ-SFUND-2006-0361; FRL—9929-32-OSWER]

Proposed Information Collection Request; Comment Request; Trade Secret Claim Submissions under the Emergency Planning and Community Right-to-Know Act.

AGENCY: Environmental Protection Agency (EPA).

ACTION: Notice.

SUMMARY: The Environmental Protection Agency (EPA) is planning to submit an information collection request (ICR), “Trade Secret Claims Submitted under the Emergency Planning and Community Right-to-Know Act.” (EPA ICR No. 1428.10, OMB Control No. 2050-0078) to the Office of Management and Budget (OMB) for review and approval in accordance with the Paperwork Reduction Act. Before doing so, EPA is soliciting public comments on specific aspects of the proposed information collection as described below. This is a proposed extension of the ICR, which is currently approved through December 31, 2015. An Agency may not conduct or sponsor and a person is not required to respond to a collection of information unless it displays a currently valid OMB control number.

DATES: Comments must be submitted on or before August 18, 2015.

ADDRESSES: Submit your comments, referencing Docket ID No. EPA-HQ-SFUND-2006-0361, online using www.regulations.gov (our preferred method), by email to superfund.docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Sicy Jacob, Office of Emergency Management, Mail Code 5104A, Environmental Protection Agency, 1200 Pennsylvania Ave. NW., Washington, DC 20460; telephone number: (202) 564-8019; fax number: (202) 564-2620; email address: jacob.sicy@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This information collection request pertains to trade secrecy claims submitted under Section 322 of the Emergency Planning and Community Right-to-Know Act of 1986 (EPCRA).

EPCRA contains provisions requiring facilities to report to State and local authorities, and EPA, the presence of extremely hazardous substances (Section 302), inventory of hazardous chemicals (Sections 311 and 312) and manufacture, process and use of toxic chemicals (Section 313).

Section 322 of EPCRA allows a facility to withhold the specific chemical identity from these EPCRA reports if the facility asserts a claim of trade secrecy for that chemical identity. The provisions in Section 322 establish the requirements and procedures that facilities must follow to request trade secrecy treatment of chemical identities, as well as the procedures for submitting public petitions to the Agency for review of the “sufficiency” of trade secrecy claims.

Trade secrecy protection is provided for specific chemical identities contained in reports submitted under each of the following: (1) Section 303 (d)(2)- Facility notification of changes that have or are about to occur, (2) Section 303 (d)(3)—Local Emergency Planning Committee (LEPC) requests for facility information to develop or implement emergency plans, (3) Section 311—Material Safety Data Sheets (MSDSs) submitted by facilities, or lists of those chemicals submitted in place of the MSDSs, (4) Section 312—Emergency and hazardous chemical inventory forms (Tier I and Tier II), and (5) Section 313 Toxic chemical release inventory form.

Form Number: EPA Form 9510-1.

Respondents/affected entities: Entities potentially affected by this action are manufacturers or non-manufacturers subject to reporting under Sections 303, 311/312 or 313 of the Emergency Planning and Community Right-to-Know Act (EPCRA).

Respondent's obligation to respond: Mandatory if the respondents would like to claim the chemical identity for any of the chemicals as trade secret in any of the reports required to be submitted under EPCRA.

Estimated number of respondents: 332 (total).

Frequency of response: Annual for claims submitted under EPCRA Sections 312 and 313.

Total estimated burden: 3,154 hours (per year). Burden is defined at 5 CFR 1320.03(b).

Total estimated cost: $206,155 (per year). No capital and operation and maintenance costs are associated with any requirements in this ICR.

Changes in Estimates: The burden hours and cost indicated in this Federal Register Notice is taken from ICR 1428.09 that is currently approved by OMB. EPA is requesting comments on the ICR currently approved by OMB. The supporting statement for the ICR can be viewed at www.regulations.gov by searching “ICR 1428.09.”

Dated: June 4, 2015.
Reggie Cheatham,
Acting Director, Office of Emergency Management.

[FR Doc. 2015-15178 Filed 6-18-15; 8:45 am]

BILLING CODE 6560-50-P